DEPARTMENT OF JUSTICE

Notice of Lodging of Proposed Consent Decree Under the Clean Air Act

On February 13, 2026, the Department of Justice lodged a proposed Consent Decree with the United States District Court for the Northern District of West Virginia in the lawsuit entitled United States and the West Virginia Department of Environmental Protection v. Antero Resources Corporation, Civil Action No. 26-cv-00010 (N.D. W. Va.).

The lawsuit seeks injunctive relief and civil penalties for violations of the Clean Air Act and its implementing regulations at oil and natural gas production facilities owned and operated by Antero Resources Corporation (“Antero”) in West Virginia and Ohio. The violations relate to alleged failures to adequately design, operate, and maintain storage tank vapor control systems, resulting in emissions of volatile organic compounds (“VOC”) and other pollutants to the atmosphere. The proposed consent decree requires Antero to perform injunctive relief to address these violations and complete mitigation projects to reduce VOC emissions. Antero must also pay a $3,800,000 civil penalty. Entering into and fully complying with the proposed consent decree would release Antero from past civil liability for violations of Clean Air Act regulations applicable to new and modified storage vessels and related state law at the facilities subject to the proposed consent decree.

The publication of this notice opens a period for public comment on the proposed Consent Decree. Comments should be addressed to the Assistant Attorney General, Environment and Natural Resources Division, and should refer to United States and the West Virginia Department of Environmental Protection v. Antero Resources Corporation, D.J. Ref. No. 90-5-2-1-12292. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed Consent Decree may be examined and downloaded at this Justice Department website: https://www.justice.gov/enrd/consent-decrees. If you require assistance accessing the proposed Consent Decree, you may request assistance by email or by mail to the addresses provided above for submitting comments.

Jason A. Dunn,
Assistant Section Chief, Environmental Enforcement Section, Environment and Natural Resources Division.

[FR Doc. 2026-03187 Filed 2-17-26; 8:45 am]

BILLING CODE 4410-15-P